DEPARTMENT OF HOMELAND SECURITY

Departmental Advisory Committee on Commercial Operations of Customs and Border Protection and Related Functions (COAC)

ACTION: Notice of committee renewal and request for applications for membership.

SUMMARY: The Department of Homeland Security (DHS) and Department of the Treasury are providing this notice of the renewal of the charter for the Departmental Advisory Committee on Commercial Operations of Customs and Border Protection and Related Functions (COAC). This notice also requests qualified individuals interested in serving on this committee to apply for membership.

DATES: Applications for membership should reach the office on or before September 15, 2004. Applications should be submitted in sufficient time to be received by the close of business on the closing date.

ADDRESSES: You may request a copy of the COAC's charter or file an application for COAC membership by writing to Ms. Monica Frazier, Office of the Assistant Secretary for Border and Transportation Security, Department of Homeland Security, Washington, DC 20528 Attn: COAC 2004. Facsimile applications are acceptable, sent to 571-227-1937—Attn: COAC 2004. Contact Ms. Frazier with any questions at 571-227-3977.

FOR FURTHER INFORMATION CONTACT: Ms. Monica Frazier, Office of the Assistant Secretary for Border and Transportation Security, Department of Homeland Security, Washington, DC 20528, telephone 571-227-3977; facsimile 571-227-1937.

SUPPLEMENTARY INFORMATION: The Secretary of the Department of Homeland Security and the Secretary of the Treasury have determined that the renewal of the Departmental Advisory Committee on Commercial Operations of Customs and Border Protection and Related Functions (COAC) is necessary and in the public interest in connection with the duties of the respective Departments. This determination follows consultation with the Committee Management Secretariat, General Services Administration.

Name of Committee: Departmental Advisory Committee on Commercial Operations of Customs and Border Protection and Related Functions (COAC).

Purpose and Objective: The purpose of the Committee is to provide advice to the Secretary of the Treasury and the Secretary of Homeland Security on all matters involving the commercial operations of bureau of Customs and Border Protection (CBP) and related functions within DHS or Treasury and to submit an annual report to Congress describing its operations and setting forth any recommendations. The Committee provides a critical and unique forum for distinguished representatives of diverse industry sectors to present their views and advice directly to senior Treasury, DHS, and customs officials. This is done on a regular basis in an open and candid atmosphere.

Duration: Continuing.

Balanced Membership Plans: The members will be selected by the Secretary of the Treasury and the Secretary of Homeland Security jointly from representatives of the trade and transportation community that do business with CBP, or others who are directly affected by customs commercial operations and related functions. In addition, members shall represent major regions of the country, and, by statute, not more than ten members may be affiliated with the same political party.

Background

In the Omnibus Budget Reconciliation Act of 1987 (Pub. L. 100-203), Congress directed the Secretary of the Treasury to create an Advisory Committee on Commercial Operations of the Customs Service. The Committee is to consist of 20 members drawn from industry sectors affected by Customs commercial operations with balanced political party affiliations. The Committee's first two-year charter was filed on October 17, 1988, and the committee has been renewed seven times since then.

With the creation of the Department of Homeland Security, the Secretary of the Treasury delegated a joint chair and Committee management role to the Secretary of Homeland Security (see 19 CFR Part 0 Appx.). Under this delegation, and pursuant to sections 412(a)(1) and 1512(d) of the Homeland Security Act of 2002 (Pub. L. 107-296), the Committee's name is being changed to the Departmental Advisory Committee on Commercial Operations of Customs and Border Protection.

Due to the importance and usefulness of this Committee to both Departments, DHS and Treasury are revising the Committee's charter to provide the Committee discretion to advise not only on the commercial operations of CBP, but also on the related functions of DHS and Treasury.

It is expected that, during its ninth two-year term, the Committee will consider issues relating to enhanced border and cargo supply chain security. COAC will continue to provide advice and report such matters as on customs modernization and automation, informed compliance and compliance assessment, account-based processing, commercial enforcement and uniformity, international efforts to harmonize customs practices and procedures, strategic planning, northern border and southern border issues, and relationships with foreign customs authorities.

Both DHS and Treasury have functions related to CBP commercial operations, such as Coast Guard operations involving vessels in international commerce, the Transportation Security Administration's operations affecting international commerce and transportation security, and Treasury regulatory and policy functions related to the customs revenue functions. Accordingly, DHS and Treasury have determined to empower COAC to provide advice and report on not only CBP commercial operations as such, but also those other DHS or Treasury functions that are related to those operations to ensure both Departments and Congress have the perspective of the COAC on the range of critical issues relating to CBP's commercial operations functions.

Committee Membership

Membership on the Committee is personal to the appointee and is concurrent with the two-year duration of the charter for the ninth term. Under the Charter, a member may not send an alternate to represent him or her at a Committee meeting. However, since Committee meetings are open to the public, another person from a member's organization may attend and observe the proceedings in a nonparticipating capacity. Regular attendance is essential; the Charter provides that a member who is absent for two consecutive meetings or two meetings in a calendar year shall be recommended for replacement on the Committee.

No person who is required to register under the Foreign Agents Registration Act as an agent or representative of a foreign principal may serve on this advisory committee.

Members who are currently serving on the Committee are eligible to reapply for membership provided that they are not in their second consecutive term and that they have met attendance requirements. A new application letter (see addresses) is required, but it can incorporate by reference materials previously filed (please attach courtesy copies).

Members will not be paid compensation by the Federal Government for their services with respect to the COAC, nor shall they be considered Federal Government employees for any purpose. No per diem, transportation, or other expenses are reimbursed by the Federal Government for the expenses they incur in attending Committee meetings at any location.

Application for Advisory Committee Appointment

There is no prescribed format for the application. Applicants may send a letter describing their interest and qualifications and enclose a resumé.

Any interested person wishing to serve on the (COAC) must provide the following:

• Statement of interest and reasons for application;

• Complete professional biography or resumé;

• Political affiliation, in order to ensure balanced representation. (Mandatory. If no party registration or allegiance exists, indicate “independent” or “unaffiliated”).

DHS and Treasury are particularly interested in receiving applications from individuals with extensive experience in maritime cargo shipping. DHS and Treasury are also interesting in receiving applications from individuals with extensive small business or small business association experience in the commercial operations of customs and related functions.

In addition, all applicants must state in their applications that they agree to submit to pre-appointment background and tax checks. (Mandatory). However, a national security clearance is not required for the position.

Dated: August 11, 2004.
C. Stewart Verdery, Jr.,
Assistant Secretary (Border and Transportation Security Policy and Planning), Department of Homeland Security.
Timothy E. Skud,
Deputy Assistant Secretary (Tax, Trade, and Tariff Policy), Department of the Treasury.

[FR Doc. 04-18715 Filed 8-11-04; 4:19 pm]

BILLING CODE 4810-25-P